DEPARTMENT OF LABOR

Office of the Secretary

National Advisory Committee for Labor Provisions of U.S. Free Trade Agreements

ACTION: Notice of Charter Reestablishment.

SUMMARY: Pursuant to the Federal Advisory Committee Act (FACA), as amended (5 U.S.C. App. 2), the North American Agreement on Labor Cooperation (NAALC), and the Labor Provisions of U.S. Free Trade Agreements, the Secretary of Labor has determined that the reestablishment of the charter of the National Advisory Committee for Labor Provisions of U.S. Free Trade Agreements is necessary and in the public interest and will provide information that can not be obtained from other sources. The committee shall provide its views to the Secretary of Labor through the Bureau of International Labor Affairs of the U.S. Department of Labor, which is the point of contact for the NAALC and the Labor Provisions of U.S. Free Trade Agreements. The committee is to be comprised of twelve members, four representing the labor community, four representing the business community, and four representing the public.

Purpose: In accordance with the provisions of the Federal Advisory Committee Act, Article 17 of the NAALC, Article 17.4 of the United States—Singapore Free Trade Agreement, Article 18.4 of the United States—Chile Free Trade Agreement, Article 18.4 of the United States—Australia Free Trade Agreement, Article 16.4 of the United States—Morocco Free Trade Agreement, Article 16.4 of the Central America—Dominican Republic—United States Free Trade Agreement (CAFTA-DR), Article 15.4 of the United States—Bahrain Free Trade Agreement, Article 16.4 of the United States—Oman Free Trade Agreement, and Article 17.5 of the United States—Peru Trade Promotion Agreement, the Secretary of Labor has determined that the reestablishment of the charter of the National Advisory Committee for Labor Provisions of U.S. Free Trade Agreements (FTAs) is necessary and in the public interest and will provide information that can not be obtained from other sources.

The Bureau of International Labor Affairs serves as the U.S. point of contact under the FTAs listed above. The committee shall provide its advice to the Secretary of Labor through the Bureau of International Labor Affairs of the U.S. Department of Labor concerning the implementation of the NAALC and the labor chapters of U.S. FTAs. The committee may be asked to provide advice on the implementation of labor provisions of other free trade agreements to which the United States may be a party or become a party. The committee should provide advice on issues within the scope of the NAALC and the labor provisions of the free trade agreements, including cooperative activities and the labor cooperation mechanism of each free trade agreement as established in the labor provisions and the corresponding annexes. The committee may be asked to provide advice on these and other matters as they arise in the course of administering the NAALC and the labor provisions of other free trade agreements.

The committee shall be comprised of twelve members, four representing the labor community, four representing the business community, and four representing the public. Unless already employees of the United States Government, no members of the Committee shall be deemed to be employees of the United States Government for any purpose by virtue of their participation on the Committee. Members of the Committee will not be compensated for their services or reimbursed for travel expenses.

Authority: The authority for this notice is granted by the Federal Advisory Committee Act (5 U.S.C. App. 2) and the Secretary of Labor's Order No. 18-2006 ((71 FR 77559 (12/26/2006)).

FOR FURTHER INFORMATION CONTACT: Paula Church Albertson, Deputy Division Chief, Trade Agreement Administration and Technical Cooperation, Bureau of International Labor Affairs, U.S. Department of Labor, telephone (202) 693-4789.

Signed at Washington, DC, this 4th day of March 2011.
Sandra Polaski,
Deputy Undersecretary, Bureau of International Labor Affairs.

[FR Doc. 2011-5637 Filed 3-10-11; 8:45 am]

BILLING CODE 4510-28-P